DEPARTMENT OF ENERGY

Federal Energy Regulatory Commission

[Docket No. RP00-349-000]

Dominion Transmission, Inc.; Notice of Section 4 Filing

June 26, 2000.

Take notice that on June 16, 2000, Dominion Transmission, Inc., tendered for filing pursuant to Section 4 of the Natural Gas Act, a notice of termination of gathering services currently being provided on specified uncertificated lines in Barbour and Ritchie Counties, West Virginia. Dominion states that the uncertificated lines are being abandoned by sale to Hope Gas, Inc. and Commonwealth Energy Company.

Any person desiring to be heard or to protest this filing should file a motion to intervene or protest with the Federal Energy Regulatory Commission, 888 First Street, N.E., Washington, D.C. 20426, in accordance with Sections 385.214 and 385.211 of the commission's Rules and regulations. Pursuant to Section 154.210 of the commission's Regulations, all such motions or protests must be filed no later than June 30, 2000. Protests will be considered by the Commission in determining the appropriate action to be taken, but will not serve to make protestants parties to the proceeding. Any person wishing to become a party must file a motion to intervene. Copies of this filing are on file with the Commission and are available for public inspection in the Public reference Room.

David P. Boergers,
Secretary.

[FR Doc. 00-16572 Filed 6-29-00; 8:45 am]

BILLING CODE 6717-01-M